DEPARTMENT OF TRANSPORTATION

National Highway Traffic Safety Administration

[U.S. DOT Docket Number NHTSA-2010-0122]

2009 Fatality Analysis Reporting System (FARS)/National Automotive Sampling System General Estimates System (NASS GES) Updates

AGENCY: National Highway Traffic Safety Administration (NHTSA), Department of Transportation.

ACTION: Request for advertisement of public meeting via webinar. Reserve your Webinar seat now at: https://www2.gotomeeting.com/register/428930602.

SUMMARY: In 2009, the National Highway Traffic Safety Administration (NHTSA) took a big step toward the goal of unifying the FARS and NASS GES data definitions and changes, simplifying crash data entry and analysis while also reducing costs and errors. The Data Standardization Work Group, consisting of representatives from NHTSA, the Federal Motor Carrier Safety Administration (FMCSA) and the Federal Highway Administration (FHWA), was chartered in 2006. The mission of the work group was to improve the compatibility of FARS and NASS GES and to bring both systems into alignment with the Model Minimum Uniform Crash Criteria (MMUCC), the guideline used now by nearly all States in the development and revision of their crash report forms and databases. After a thorough review of the data elements and attributes (variable values) in FARS and NASS GES and comparison to the recommended MMUCC data elements and attributes, the first of two phases of identified standardization changes were implemented in 2009, involving 45 common data elements. The second and much larger phase involving all the remaining variables was implemented in 2010. This webinar will highlight the 2009 changes. Also, NCSA will be presenting “how to use” the auxiliary files created from the FARS and NASS GES data bases.

Join us for a National Highway Traffic Safety Administration (NHTSA)—2009 Fatality Analysis Reporting System (FARS) & National Automotive Sampling System General Estimates System (NASS GES) Updates—Grand Rounds Electronic Webinar. Reserve your Webinar seat now at: https://www2.gotomeeting.com/register/428930602.

This Webinar will be recorded.

DATES: September 14, 2010 @ 10 a.m.-12 p.m.

ADDRESSES: Refer to the docket notice number cited at the beginning of this notice and send your comments by any of the following methods:

• Fax: 202-493-2251.

• Mail: U.S. Department of Transportation, Docket Operations, M-30, West Building Ground Floor, Room W12-140, 1200 New Jersey Ave., SE., Washington, DC 20590, between 9 a.m. and 5 p.m., Monday-Friday, except Federal holidays.

FOR FURTHER INFORMATION CONTACT: Barbara Rhea, Chief, State Data Reporting Systems Division, Office of Data Acquisitions (NVS-412), Room W53-304, 1200 New Jersey Avenue, SE., Washington, DC 20590. Mr. Rhea's telephone number is (202) 366-2714 and e-mail address is barbara.rhea@dot.gov.

Marilena Amoni,
Associate Administrator, National Center for Statistics and Analysis.

[FR Doc. 2010-21302 Filed 8-25-10; 8:45 am]

BILLING CODE P